DEPARTMENT OF JUSTICE

[AAG/A Order No. 008-2006]

United States Marshals Service; Privacy Act of 1974; System of Records

AGENCY: United States Marshals Service.

ACTION: Notice of new system of records.

SUMMARY: Pursuant to the provisions of the Privacy Act of 1974, 5 U.S.C. 552a, notice is given that the Department of Justice United States Marshals Service (USMS) proposes to establish a new system of records entitled, Merit Promotion Open Season Records System (MPOS) Justice/USM-019. This new system of records contains unclassified records collected pursuant to the USMS merit promotion plan program. The system consists of any information necessary to rate qualifications and make selections for criminal investigator positions at the GS-13 grade level or above, including employees' work experience; service computation dates; performance appraisals; and current job titles, series, and grades. The purpose of the merit promotion open season record system is to allow USMS 1811 criminal investigators to apply for positions during the year without waiting for vacancies to occur or new positions to be established and to, thereafter, receive consideration as positions become available.

DATES: In accordance with 5 U.S.C. 552a(e)(4) and (11), the public is given a 30-day period in which to comment. The Office of Management and Budget (OMB), which has oversight responsibility under the Privacy Act, requires a 40-day period to conclude its review of the system. Therefore, please submit any comments by July 3, 2006.

ADDRESSES: The public, OMB, and Congress are invited to submit any comments to Mary E. Cahill, Management Analyst, Management and Planning Staff, Justice Management Division, United States Department of Justice, Washington, DC 20530-0001 (Room 1400, National Place Building).

FOR FURTHER INFORMATION CONTACT: Mary Cahill, (202) 307-1823.

SUPPLEMENTARY INFORMATION: In accordance with 5 U.S.C. 552a(r), the Department has provided a report of this new system of records to OMB and Congress.

Dated: May 16, 2006.
Paul R. Corts,
Assistant Attorney General for Administration.

JUSTICE/USM-019

System name:

Merit Promotion Open Season Records System (MPOS), Justice/USM-019.

Security classification:

Limited Official Use.

System location:

United States Marshals Service (USMS) Headquarters, Washington, DC 20530-1000.

Categories of individuals covered by the system:

Individuals covered by the system include all permanent USMS criminal investigative employees, (GS-1811), interested in applying for promotions for positions at the GS-13 level and above.

Categories of records in the system:

Records contain identifying data such as employee names, social security numbers, home and work addresses, along with home and work phone numbers. Records also consist of any information necessary to rate qualifications and make selections including employees' work experience; service computation dates; performance appraisals; and current job titles, series, and grades. All information is voluntarily submitted by the employees and their supervisors.

Authority for maintenance of the system:

5 CFR 335.103 and Department of Justice Order 1335b.

Purpose(s):

The MPOS supports the USMS merit promotion plan program by identifying and tracking interested and eligible employees in the event a vacancy announcement opens during the designated merit promotion period. The purpose of the merit promotion open season record system is to allow USMS 1811 criminal investigators to apply for positions during the year without waiting for vacancies to occur or new positions to be established and to, thereafter, receive consideration as positions become available. This system also assists the selecting officials in making valid selections.

Routine uses of records maintained in the system, including categories of users and the purposes of such uses.

Records in this system may be disclosed:

A. To the Office of Personnel Management (OPM) to enable that agency to conduct such review of USMS selections and the operation of the MPOS program as are consistent with OPM's statutory and regulatory authority.

B. In an appropriate proceeding before a court, or administrative or adjudicative body, when the Department of Justice (DOJ) determines that the records are arguably relevant to the proceeding; or in an appropriate proceeding before an administrative or adjudicative body when the adjudicator determines the records to be relevant to the proceeding.

C. To an actual or potential party to litigation or the party's authorized representative for the purpose of negotiation or discussion of such matters as settlement, plea bargaining, or in informal discovery proceedings.

D. To the Merit Systems Protection Board or the Office of the Special Counsel in connection with appeals, special studies of the civil service and other merit systems, review of office rules and regulations, investigations of alleged or possible prohibited personnel practices, and such other functions, e.g., as prescribed in 5 U.S.C. Chapter 12, or as may be authorized by law.

E. To the Equal Employment Opportunity Commission, when requested, in connection with investigations into alleged or possible discrimination practices in the Federal sector, examination of Federal affirmative employment programs, compliance by Federal agencies with the Uniform Guidelines or Employee Selection Procedures, or other functions vested in the Commission.

F. To a Member of Congress, or staff acting upon the Member's behalf, when the Member or staff requests the information on behalf of, and at the request of, the individual who is the subject of the record.

G. To the National Archives and Records Administration for purposes of records management inspections conducted under the authority of 44 U.S.C. 2904 and 2906.

H. To the Federal Labor Relations Authority or its General Counsel when requested in connection with investigations of allegations of unfair labor practices or matters before the Federal Service Impasses Panel.

I. To contractors, grantees, experts, consultants, students, and others performing or working on a contract, service, grant, cooperative agreement, or other assignment for the Federal Government, when necessary to accomplish an agency function related to this system of records.

J. To disclose information to an arbitrator to resolve disputes under a negotiated grievance procedure or to officials of labor organizations recognized under 5 U.S.C. Chapter 71 when relevant and necessary to their duties of exclusive representation.

K. To the Union when required by contract as part of the processing of a grievance and/or to an arbitrator in the arbitration of a grievance.

L. The Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

M. To appropriate officials and employees of a Federal agency or entity which requires information relevant to a decision concerning the hiring, appointment, or retention of an employee; the issuance, renewal, suspension, or revocation of a security clearance; the execution of a security or suitability investigation; the letting of a contract, or the issuance of a grant or benefit.

N. To any criminal, civil, or regulatory law enforcement authority (whether federal, state, local, territorial, tribal, or foreign) where the information is relevant to the recipient entity's law enforcement responsibilities.

O. To disclose information to any source from which additional information is requested (to the extent necessary to identify the individual, inform the source of the purposes of the request, and to identify the type of information requested), when necessary to obtain information relevant to an agency decision concerning promoting or retaining an employee, issuing a security clearance, or conducting a security or suitability investigation of an individual.

Disclosure to consumer reporting agencies:

None.

Policies and practices for storing, retrieving, accessing, retaining, and disposing of records in the system:

Storage:

Information is in paper and/or electronic format. The information is stored on computer tapes, magnetic disks, and in file cabinets.

Retrievability:

Records may be retrieved by name, Social Security Number (SSN), or unique MPOS number.

Safeguards:

The USMS headquarters offices are located in buildings under security guard, and access to premises is by official identification. Offices are locked during non-duty hours. Access to this system is obtained through remote terminals that require the use of restricted passwords and a user ID. Paper records will be maintained in locked file cabinets. The MPOS server will be maintained in a secure computer facility.

Retention and disposal:

Records are retained for one year following the merit promotion open season announcement for which they are submitted. Records are destroyed by shredding or burning.

System manager(s) and address:

Assistant Director, Human Resources Division, United States Marshals Service Headquarters, Washington, DC 20530-1000.

Notification procedure:

Inquiries should be addressed to the system manager.

Record access procedure:

A request for access to a record from this system shall be made in writing with the envelope and the letter clearly marked “Privacy Act Request.” It should clearly indicate the name of requester, the nature of the record sought and the approximate dates covered by the record. The requester shall also provide the required verification of identity as outlined in 28 CFR 16.41(d) and provide a return address for transmitting the information. Access requests will be directed to the System Manager listed above, Attention: FOI/PA Officer.

Contesting records procedure:

Individuals desiring to contest or amend information maintained in the system should direct their request to the System Manager listed above, stating clearly and concisely what information is being contested, the reasons for contesting it, and the proposed amendment to the information sought.

Record source categories:

Information contained in this system of records is obtained from the individuals covered by the system, or derived from information the individuals or their supervisors supplied.

Exemptions claimed for the system:

None.

[FR Doc. E6-7785 Filed 5-22-06; 8:45 am]

BILLING CODE 4410-04-P